DEPARTMENT OF JUSTICE

Notice of Lodging of Settlement Agreement Pursuant to the Comprehensive Environmental Response, Compensation and Liability Act

Notice is hereby given that on April 10, 2012 a proposed Stipulation and Settlement Agreement was lodged with the United States Bankruptcy Court for the District of Delaware in In re W.R. Grace & Co., Case No. 01-01139 (JFK). The proposed Settlement Agreement would resolve the United States' claim in W.R. Grace & Co.'s bankruptcy proceeding for environmental response costs at the Big Tex Site in San Antonio, Texas, pursuant to Section 107 of the Comprehensive Environmental Response, Compensation and Liability Act (CERCLA), 42 U.S.C. 9607. Under the terms of the proposed Settlement Agreement, W.R. Grace & Co. will grant the United States an Allowed General Unsecured Claim of $2,200,000 to resolve the Big Tex Site CERCLA claim.

The Department of Justice will receive, for a period of thirty (30) days from the date of this publication, comments relating to the proposed settlement agreement. Comments should be addressed to the Assistant Attorney General for the Environment and Natural Resources Division, and either emailed to pubcomment-ees.enrd@usdoj.gov or mailed to P.O. Box 7611, U.S. Department of Justice, Washington, DC 20044-7611, and should refer to In re W.R. Grace & Co., Case No. 01-01139 (JFK), and D.J. Ref. No. 90-11-2-07106/5.

During the public comment period, the settlement agreement may be examined on the following Department of Justice Web site, http://www.usdoj.gov/enrd/Consent_Decrees.html. A copy of the settlement agreement may also be obtained by mail from the Consent Decree Library, P.O. Box 7611, U.S. Department of Justice, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $3.50 ($.25 per page) payable to the U.S. Treasury or, if by email or fax, forward a check in that amount to the Consent Decree Library at the address given above.

Maureen Katz,
Assistant Chief, Environmental Enforcement Section, Environment and Natural Resources Division.

[FR Doc. 2012-9291 Filed 4-17-12; 8:45 am]

BILLING CODE 4410-15-P